DEPARTMENT OF LABOR

Employment and Training Administration

[TA-W-50,556]

Stora Enso North America Wisconsin Rapids, Wisconsin; Notice of Termination of Investigation

Pursuant to section 221 of the Trade Act of 1974, an investigation was initiated on January 13, 2003, in response to a worker petition filed by a company official on behalf of workers at Stora Enso North America, Wisconsin Rapids, Wisconsin.

The petitioning group of workers is covered by an active certification issued on March 12, 2001 and which remains in effect (TA-W-38,305). Consequently, further investigation in this case would serve no purpose, and the investigation has been terminated.

Signed in Washington, DC, this 21st day of January 2003.
Richard Church,
Certifying Officer, Division of Trade Adjustment Assistance.

[FR Doc. 03-2844 Filed 2-5-03; 8:45 am]

BILLING CODE 4510-30-P